DEPARTMENT OF TRANSPORTATION

Federal Aviation Administration

Agency Information Collection Activities: Requests for Comments; Clearance of Renewed Approval of Information Collection: Application for Certificate of Waiver or Authorization

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 12, 2015. The information collected by FAA Form 7711-2, Application for Certificate of Waiver or Authorization, is reviewed and analyzed by FAA to determine the type and extent of the intended deviation from prescribed regulations.

DATES: Written comments should be submitted by November 23, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION: OMB Control Number: 2120-0027.

Title: Application for Certificate of Waiver or Authorization.

Form Numbers: FAA Form 7711-2.

Type of Review: Renewal of an information collection.

Background: The Federal Register Notice with a 60-day comment period soliciting comments on the following collection of information was published on August 12, 2015 (80 FR 48389). The information collected by FAA Form 7711-2, Application for Certificate of Waiver or Authorization, is reviewed and analyzed by FAA to determine the type and extent of the intended deviation from prescribed regulations. A certificate of waiver or authorization to deviate is generally issued to the applicant if the proposed operation does not create a hazard to person, property, other aircraft, and includes the operation of unmanned aircraft. Applications for certificates of waiver to the provisions of Parts 91 and 101, for authorization to make parachute jumps (other than emergency or military operations) under Part 105, Section 105.15 (airshows and meets) use FAA Form 7711-2.

Respondents: Approximately 21,761 individuals and businesses.

Frequency: Information is collected on occasion.

Estimated Average Burden per Response: 32 minutes.

Estimated Total Annual Burden: 13,761 hours.

Issued in Washington, DC, on October 14, 2015.
Ronda Thompson,
FAA Information Collection Clearance Officer, IT Enterprises Business Services Division, ASP-110.

[FR Doc. 2015-26883 Filed 10-21-15; 8:45 am]

BILLING CODE 4910-13-P